DEPARTMENT OF COMMERCE

International Trade Administration

[A-822-804]

Notice of Final Determination of Sales at Less Than Fair Value: Steel Concrete Reinforcing Bars From Belarus

AGENCY: Import Administration, International Trade Administration, Department of Commerce.

EFFECTIVE DATE: June 22, 2001.

FOR FURTHER INFORMATION CONTACT: Alexander Amdur or Karine Gziryan at (202) 482-5346 or (202) 482-4081, respectively, AD/CVD Enforcement, Group II, Office 4 Import Administration, International Trade Administration, U.S. Department of Commerce, 14th Street and Constitution Avenue, NW., Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (April 2000).

Final Determination

We determine that steel concrete reinforcing bar (rebar) from Belarus is being sold, or is likely to be sold, in the United States at less than fair value (LTFV), as provided in section 735 of the Act. The estimated margin of sales at LTFV is shown in the Final Determination of Investigation section of this notice.

Case History

On January 30, 2001, the Department published the preliminary determination of the antidumping investigation of steel concrete reinforcing bars from Belarus. See Notice of Preliminary Determination of Sales at Less Than Fair Value: Steel Concrete Reinforcing Bars from Belarus, 66 FR 8329 (January 30, 2001) (Preliminary Determination). We conducted verification of the questionnaire responses of the respondent, Byelorussian Steel Works (BSW), during the week of March 11, 2001. We gave interested parties an opportunity to comment on our preliminary determination and the findings at verification. On April 25, 2001, BSW and the petitioner, the Rebar Trade Action Coalition, ¹ submitted case briefs; and on April 30, 2001, both parties submitted rebuttal briefs. The Department received no requests for a public hearing.

¹ The petitioner in this investigation is the Rebar Trade Action Coalition (RTAC), and its individual members, AmeriSteel, Auburn Steel Co., Inc., Birmingham Steel Corp., Border Steel, Inc., Marion Steel Company, Riverview Steel, and Nucor Steel and CMC Steel Group.

Section 734(m) of the Act states that in the case of regional industry investigations, the administering authority shall offer exporters the opportunity to enter into suspension agreements. Proposed and finalized agreements in these cases must comport with the requirements set forth under section 734 of the Act for the suspension of antidumping duty investigations. The exporter participating in the instant investigation was aware of its opportunity to propose a suspension agreement. However, the Department did not accept a suspension agreement in this proceeding. See Memorandum from Holly A. Kuga to The File, dated March 30, 2001.

The Department has conducted this investigation in accordance with section 731 of the Act.

Scope of Investigation

For purposes of this investigation, the product covered is all steel concrete reinforcing bars (rebar) sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes. The written description of the scope of this proceeding is dispositive.

Period of Investigation

The period of investigation (POI) is October 1, 1999, through March 31, 2000. This period corresponds to the two most recent fiscal quarters prior to the month of the filing of the petition (i.e., June 2000).

Analysis of Comments Received

All issues raised in the case and rebuttal briefs by parties to this proceeding and to which we have responded are listed in the Appendix to this notice and addressed in the “Issues and Decision Memorandum” (Decision Memorandum), dated June 14, 2001, which is hereby adopted by this notice. Parties can find a complete discussion of the issues raised in this investigation and the corresponding recommendations in the public Decision Memorandum which is on file in the Central Records Unit, room B-099 of the main Department building. In addition, a complete version of the Decision Memorandum can be accessed directly on the Web at http://ia.ita.doc.gov. The paper copy and electronic version of the Decision Memorandum are identical in content.

Changes Since the Preliminary Determination

Based on our findings at verification and our analysis of comments received, we have made adjustments to the preliminary determination calculation methodologies in calculating the final dumping margin in this proceeding. The summary of these adjustments is discussed below:

1. We recalculated BSW's factors of production based on the actual factors consumed by BSW during the POI. For further details, see Comments 3 and 5 in the Decision Memorandum for the instant investigation.

2. We excluded sales outside the POI from our calculations. For further details, see Comment 4 in the Decision Memorandum for the instant investigation.

3. Based on our verification findings, we corrected: (1) the reported quantity for one sale; and (2) the distances used in the freight valuation for scrap steel.

4. We used the updated 1999 Thai import values that were placed on the record since the preliminary determination, where appropriate, to value factors of production.

For further details of our calculations, see Memorandum on Factors of Production Valuation and Calculation dated June 14, 2001.

Verification

As provided in section 782(i) of the Act, we verified the information submitted by the respondent for use in our final determination. We used standard verification procedures including examination of relevant accounting and production records, and original source documents provided by the respondent.

Critical Circumstances

In a letter filed on August 22, 2000, the petitioner alleged that there is a reasonable basis to believe or suspect that critical circumstances exist with respect to imports of rebar from Belarus. On January 30, 2001, the Department published in the Federal Register its preliminary determination that critical circumstances do not exist for imports of rebar from Belarus. See Preliminary Determination, 66 FR at 8329-8330, see also Memorandum from Tom Futtner to Holly A. Kuga, “Antidumping Duty Investigation of Steel Concrete Reinforcing Bars from Belarus—Preliminary Negative Determination of Critical Circumstances,” dated January 16, 2001.

Since the preliminary determination, we have received comments on the issue of critical circumstances from the petitioner and BSW. After consideration of these comments, which are discussed in detail in the Decision Memorandum, we find that critical circumstances do not exist for imports of rebar from Belarus. This determination is discussed in detail in the Decision Memorandum and in the Memorandum from Holly A. Kuga to Bernard T. Carreau, “Antidumping Duty Investigation of Steel Concrete Reinforcing Bars from Belarus—Final Negative Determination of Critical Circumstances,” dated June 14, 2001.

Final Determination of Investigation

We determine that the following weighted-average percentage dumping margin exists for Belarus for the period October 1, 1999 through March 31, 2000:

Manufacturer/exporter | Margin (percent)
Belarus-Wide Rate | 114.53

The Belarus-wide rate applies to all entries of the subject merchandise from Belarus.

Continuation of Suspension of Liquidation

Pursuant to section 735(c)(1)(B) of the Act, we are instructing the U.S. Customs Service to continue to suspend liquidation of all entries of rebar from Belarus that are entered, or withdrawn from warehouse, for consumption on or after January 30, 2001 (the date of publication of the Preliminary Determination in the Federal Register). The Customs Service shall continue to require a cash deposit or the posting of a bond equal to the estimated amount by which the normal value exceeds the U.S. price as shown above. The suspension of liquidation instructions will remain in effect until further notice.

ITC Notification

In accordance with section 735(d) of the Act, we have notified the International Trade Commission (ITC) of our determination. As our final determination is affirmative, the ITC will determine, within 45 days, whether these imports are causing material injury, or threat of material injury, to an industry in the United States. If the ITC determines that material injury, or threat of material injury does not exist, the proceeding will be terminated and all securities posted will be refunded or canceled. If the ITC determines that such injury does exist, the Department will issue an antidumping order directing Customs officials to assess antidumping duties on all imports of the subject merchandise entered or withdrawn from warehouse for consumption on or after the effective date of the suspension of liquidation.

This determination is issued and published in accordance with sections 735(d) and 777(i)(1) of the Act.

Dated: June 14, 2001.
Faryar Shirzad,
Assistant Secretary for Import Administration.

Appendix—Issues in Decision Memorandum

1. The Surrogate Market Economy Country for Belarus

2. The Surrogate Values for Factory Overhead, SG&A Expenses, and Profit

3. Reporting Period for Factors of Production

4. Sales Outside of the Period of Investigation

5. The Valuation of Pig Iron and Iron Pellets

6. Critical Circumstances

[FR Doc. 01-15743 Filed 6-21-01; 8:45 am]

BILLING CODE 3510-DS-P